DEPARTMENT OF ENERGY

Sustainable Energy Fund for Africa

AGENCY: Office of International Affairs, DOE.

ACTION: Notice.

SUMMARY: The U.S. Department of Energy (DOE) and the Overseas Private Investment Corporation (OPIC) announce the creation of the U.S.-Africa Sustainable Energy Program. Using $400,000.00 in grants and loans to U.S. not-for-profit entities, non-governmental organizations, and small businesses, the program will facilitate investment in sustainable energy projects in Africa. Interested parties should submit applications to OPIC. Applications will be reviewed by OPIC and DOE and applicants that meet OPIC Requirements and the Program's Selection Criteria, will be considered for the program. Specific information on OPIC Requirements and Program's Selection Criteria is available on the OPIC website (http://www.opic.gov).

FOR FURTHER INFORMATION CONTACT: Michelle Billig, IA-32, International Affairs Specialist, U.S. Department of Energy, Office of American and African Affairs, 1000 Independence Ave., SW, Washington, DC 20585, Phone: (202) 586-3209; Sam Smoots, Investment Development, Overseas Private Investment Corporation 1100 New York Avenue, NW., Washington, DC 20527, Phone: (202) 336-8645.

SUPPLEMENTARY INFORMATION: At the DOE-sponsored U.S.-Africa Energy Ministers conference in Tucson, Arizona, in December 1999, U.S. Energy Secretary Bill Richardson and Overseas Private Investment Corporation's President and CEO George Muñoz unveiled the U.S. Africa Sustainable Energy Program. This program promotes U.S. clean energy technologies and services in an effort to bring private capital and skills to Africa in a partnering relationship. Using $400,000.00 in grants and loans to U.S. not-for-profit entities, non-governmental organizations, and small businesses, the program will facilitate investment in sustainable energy projects in Africa. Interested parties should submit applications to OPIC. Applications will be reviewed by OPIC and DOE and applicants that meet OPIC Requirements and the Program's Selection Criteria, will be considered for the program. Specific information on OPIC Requirements and Program's Selection Criteria is available on the OPIC website (http://www.opic.gov).

Dated: November 9, 2000.
Theresa Fariello,
Deputy Assistant Secretary, Office of International Energy Policy, Office of International Affairs.

[FR Doc. 00-30639 Filed 11-30-00; 8:45 am]

BILLING CODE 6450-01-P